DEPARTMENT OF HEALTH AND HUMAN SERVICES

National Institutes of Health

Submission for OMB Review; 30-day Comment Request; STAR METRICS® (Science and Technology for America's Reinvestment: Measuring the Effects of Research on Innovation, Competitiveness and Science) (OD)

SUMMARY: Under the provisions of Section 3507(a)(1)(D) of the Paperwork Reduction Act of 1995, the National Institutes of Health (NIH) has submitted to the Office of Management and Budget (OMB) a request for review and approval of the information collection listed below. This proposed information collection was previously published in the Federal Register on February 5, 2015, page 6522 and allowed 60-days for public comment. No public comments were received. The purpose of this notice is to allow an additional 30 days for public comment. The Office of Extramural Research (OER), National Institutes of Health (NIH), may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30 days of the date of this publication.

FOR FURTHER INFORMATION CONTACT: To obtain a copy of the data collection plans and instruments or request more information on the proposed project contact: Dr. William Duval, Office of Planning, Analysis and Communication, OER, NIH, 6705 Rockledge Drive, Suite 5166, Bethesda, MD 20892, or call non-toll-free number (301) 435-8683, or Email your request, including your address to: William.Duval@mail.nih.gov. Formal requests for additional plans and instruments must be requested in writing.

Proposed Collection: STAR METRICS® (Science and Technology for America's Reinvestment: Measuring the Effects of Research on Innovation, Competitiveness and Science)—0925-0616—REVISION—Office of Extramural Research (OER), National Institutes of Health (NIH).

Need and Use of Information Collection: The aim of STAR METRICS® is twofold. The goal of STAR METRICS® is to continue to provide mechanisms that will allow participating universities and federal agencies with a reliable and consistent means to account for the number of scientists and staff that are on research institution payrolls, supported by federal funds. In subsequent generations of the program, it is hoped that STAR METRICS® will allow for measurement of science impact on economic outcomes (such as job creation), on knowledge generation (such as citations and patents) as well as on social and health outcomes. We have completed the initial data input and this request will finalize the quarterly data input process.

OMB approval is requested for 1 year. The annualized cost to respondents is estimated to be $50,000. The total estimated annualized burden hours are 1,000.

Estimated Annualized Burden Hours
Instrument | Number of respondents | Number of responses per respondent | Average burden per response (in hours) | Total annual burden hour
Ongoing quarterly data input | 100 | 4 | 2.5 | 1,000

Dated: April 15, 2015.
Lawrence A. Tabak,
Deputy Director, National Institutes of Health.

[FR Doc. 2015-09366 Filed 4-21-15; 8:45 am]

BILLING CODE 4140-01-P